DEPARTMENT OF COMMERCE

International Trade Administration

[A-122-814; C-122-815]

Continuation of Antidumping Duty Order on Pure Magnesium From Canada and Countervailing Duty Orders on Pure and Alloy Magnesium From Canada

AGENCY: Import Administration, International Trade Administration, Department of Commerce.

ACTION: Notice of continuation of antidumping duty order on pure magnesium from Canada and countervailing duty orders on pure and alloy magnesium from Canada.

SUMMARY: On July 5, 2000, the Department of Commerce (“the Department”), pursuant to sections 751(c) and 752 of the Tariff Act of 1930, as amended (“the Act”), determined that revocation of the antidumping duty order on pure magnesium from Canada and the countervailing duty orders on pure and alloy magnesium from Canada, are likely to lead to continuation or recurrence of dumping and net countervailable subsidies, respectively. See Pure Magnesium from Canada; Final Results of Full Sunset Review of Antidumping Order, 65 FR 41436 (July 5, 2000), and Pure and Alloy Magnesium from Canada; Final Results of Full Sunset Reviews of Countervailing Duty Orders, 65 FR 41444 (July 5, 2000), respectively. On August 2, 2000, the International Trade Commission (“the Commission”), pursuant to section 751(c) of the Act, determined that revocation of the antidumping duty order on pure magnesium from Canada and the countervailing duty orders on pure and alloy magnesium from Canada would be likely to lead to continuation or recurrence of material injury to an industry in the United States within a reasonably foreseeable time. See Magnesium from Canada, 65 FR 47517 (August 2, 2000). Therefore, pursuant to 19 CFR 351.218(f)(4), the Department is publishing notice of the continuation of the antidumping duty orders on pure magnesium from Canada and the countervailing duty orders on pure and alloy magnesium from Canada.

EFFECTIVE DATE: August 16, 2000.

For Further Information Contact: Kathryn B. McCormick or James P. Maeder, Office of Policy for Import Administration, International Trade Administration, U.S. Department of Commerce, 14th Street and Constitution Ave., NW, Washington, DC 20230; telephone: (202) 482-1930 or (202) 482-3330, respectively.

SUPPLEMENTARY INFORMATION:

Background

On August 2, 1999, the Department initiated, and the Commission instituted, sunset reviews of the antidumping duty order on pure magnesium from Canada and countervailing duty orders on pure and alloy magnesium from Canada (64 FR 41915 and 64 FR 41961, respectively), pursuant to section 751(c) of the Act. As a result of its reviews, the Department found on July 5, 2000, that revocation of the antidumping duty order on pure magnesium from Canada (65 FR 41436) and the countervailing duty orders on pure and alloy magnesium from Canada (65 FR 41444) would likely lead to continuation or recurrence of dumping and countervailable subsidies, respectively, and notified the Commission of the magnitude of the margin and net countervailable subsidies likely to prevail were the order revoked.

On August 2, 2000, the Commission determined, pursuant to section 751(c) of the Act, that revocation of the antidumping duty order and countervailing duty orders on magnesium from Canada would be likely to lead to continuation or recurrence of material injury to an industry in the United States within a reasonably foreseeable time. See Magnesium from Canada, 65 FR 47517 (August 2, 2000) and USITC Publication 3324 (July 2000), Investigation Nos. 701-TA-309-A-B and 731-TA-528 (Review).

Scope

Antidumping Duty Order: The merchandise subject to this antidumping duty order is pure magnesium from Canada. Pure magnesium is currently classifiable under item number 8104.11.0000 of the Harmonized Tariff Schedule of the United States (“HTSUS”). Pure unwrought magnesium contains at least 99.8 percent magnesium by weight and is sold in various slab and ingot forms and sizes. Granular and secondary magnesium are excluded from the scope of this order.

Countervailing Duty Orders: The products covered by these countervailing duty orders are pure magnesium and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes. The merchandise is currently classifiable under HTSUS item numbers 8104.11.0000 and 8104.19.0000 of the Harmonized Tariff Schedule of the United States (“HTSUS”). Secondary and granular magnesium are not included in the scope of these orders.

Although the above HTSUS subheadings are provided for convenience and customs purposes, our written descriptions of the scopes remain dispositive.

Determination

As a result of the determinations by the Department and the Commission that revocation of the antidumping duty order on pure magnesium from Canada and countervailing duty orders on pure and alloy magnesium from Canada, would be likely to lead to continuation or recurrence of dumping and countervailable subsidies, and material injury to an industry in the United States, pursuant to section 751(d)(2) of the Act, the Department hereby orders the continuation of the antidumping duty order on pure magnesium from Canada and countervailing duty orders on pure and alloy magnesium from Canada. The Department will instruct the U.S. Customs Service to continue to collect antidumping and countervailing duty deposits at the rates in effect at the time of entry for all imports of subject merchandise. The effective date of continuation of these orders will be the date of publication in the Federal Register of this Notice of Continuation. Pursuant to section 751(c)(2) and 751(c)(6) of the Act, the Department intends to initiate the next five-year reviews of these orders not later than July 2005.

Dated: August 9, 2000.
Troy H. Cribb,
Acting Assistant Secretary for Import Administration.

[FR Doc. 00-20829 Filed 8-15-00; 8:45 am]

BILLING CODE 3510-DS-P